DEPARTMENT OF ENERGY

Federal Energy Regulatory Commission

[Docket No. CP06-422-001]

Cameron LNG, LLC; Notice of Filing

May 25, 2007.

Take notice that on February 15, 2007, Cameron LNG, LLC (Cameron LNG) tendered for filing a supplemental request for a modification of the Commission's January 18, 2007 Order granting authorization under section 3 of the Natural Gas Act (NGA) for Cameron LNG to construct its Terminal Expansion Project. Cameron LNG requests authority to increase the send-out rate of its LNG terminal prior to the construction of any Terminal Expansion Project facilities, rather than during the construction of those facilities as authorized by the January 18, 2007 Order.

Any person desiring to intervene or to protest this filing must file in accordance with Rules 211 and 214 of the Commission's Rules of Practice and Procedure (18 CFR 385.211, 385.214). Protests will be considered by the Commission in determining the appropriate action to be taken, but will not serve to make protestants parties to the proceeding. Anyone filing a protest must serve a copy of that document on all the parties to the proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on June 8, 2007.

Kimberly D. Bose,
Secretary.

[FR Doc. E7-10544 Filed 5-31-07; 8:45 am]

BILLING CODE 6717-01-P